BUREAU OF CONSUMER FINANCIAL PROTECTION

[Docket No. CFPB-2 018-0001]

Request for Information Regarding Bureau Civil Investigative Demands and Associated Processes

AGENCY: Bureau of Consumer Financial Protection.

ACTION: Notice; extension of comment period.

SUMMARY: On January 26, 2018, the Bureau of Consumer Financial Protection (Bureau) published a Request for Information Regarding Bureau Civil Investigative Demands and Associated Processes (RFI), which provided that comments must be received on or before March 27, 2018. On February 22, 2018, the Bureau received a letter from two industry trade associations requesting a 30-day comment period extension for this RFI and for two other Bureau Requests for Information. The additional time is requested in order to allow commenters to develop meaningful responses to the RFI and the other identified Requests for Information. The Bureau believes the extension will allow all stakeholders the opportunity to provide more robust responses. In response to this request, the Bureau has determined that a 30 day extension of the comment period is appropriate.

DATES: The comment period for the Request for Information Regarding Bureau Civil Investigative Demands and Associated Processes, published January 26, 2018, at 83 FR 3686 has been extended. Comments must now be received on or before April 26, 2018.

ADDRESSES: You may submit responsive information and other comments, identified by Docket No. CFPB-2018-0001, by any of the following methods: Electronic: Go to http://www.regulations.gov. Follow the instructions for submitting comments.

• Email: FederalRegisterComments@cfpb.gov. Include Docket No. CFPB-2018-0001 in the subject line of the message.

• Mail: Comment Intake, Consumer Financial Protection Bureau, 1700 G Street NW, Washington, DC 20552.

• Hand Delivery/Courier: Comment Intake, Consumer Financial Protection Bureau, 1700 G Street NW, Washington, DC 20552.

Instructions: The Bureau encourages the early submission of comments. All submissions must include the document title and docket number. Please note the number of the topic on which you are commenting at the top of each response (you do not need to address all topics). Because paper mail in the Washington, DC area and at the Bureau is subject to delay, commenters are encouraged to submit comments electronically. In general, all comments received will be posted without change to http://www.regulations.gov. In addition, comments will be available for public inspection and copying at 1700 G Street NW, Washington, DC 20552, on official business days between the hours of 10 a.m. and 5 p.m. eastern time. You can make an appointment to inspect the documents by telephoning 202-435-7275.

All submissions in response to this request for information, including attachments and other supporting materials, will become part of the public record and subject to public disclosure. Proprietary information or sensitive personal information, such as account numbers or Social Security numbers, or names of other individuals, should not be included. Submissions will not be edited to remove any identifying or contact information.

FOR FURTHER INFORMATION CONTACT: Mark Samburg, Counsel, at 202-435-9710. If you require this document in an alternative electronic format, please contact CFPB_Accessibility@cfpb.gov.

Authority: 12 U.S.C. 5511(c).

Dated: March 16, 2018.
Mick Mulvaney,
Acting Director, Bureau of Consumer Financial Protection.

[FR Doc. 2018-05783 Filed 3-21-18; 8:45 am]

BILLING CODE 4810-AM-P